INTERNATIONAL TRADE COMMISSION

[Inv. No. 337-TA-604]

In the Matter of Certain Sucralose, Sweeteners Containing Sucralose, and Related Intermediate Compounds Thereof; Correction

AGENCY: U.S. International Trade Commission.

ACTION: Correcting amendment.

SUMMARY: This correcting amendment corrects a typographical error in the institution of investigation notice published in the Federal Register on May 10, 2007 (72 FR 26645). The notice published in the Federal Register on May 10 inadvertently cited the incorrect section of the U.S. Code. Therefore, the Commission is amending the second sentence in the third from the last paragraph to read “In instituting this investigation, the Commission has not made any determination as to the scope of 19 U.S.C. 1337(a)(1)(B)(ii) or whether 337(a)(1)(B)(ii) is sufficiently broad as to encompass such processes.”

DATES: Effective on May 17, 2007.

FOR FURTHER INFORMATION CONTACT: Marilyn R. Abbott, Secretary to the Commission, 202-205-2000 (e-mail: marilyn.abbott@usitc.gov).

Issued: May 11, 2007.
By Order of the Commission.
Marilyn R. Abbott,
Secretary to the Commission.

[FR Doc. E7-9456 Filed 5-16-07; 8:45 am]

BILLING CODE 7020-02-P